DEPARTMENT OF HEALTH AND HUMAN SERVICES

Administration for Children and Families

[CFDA Number: 93.647]

Announcement of the Intent To Award Single-Source Cooperative Agreements to Approved but Unfunded Diaper Distribution Pilot Applications From FY2022

AGENCY: Office of Community Services (OCS), Administration for Children and Families (ACF), Department of Health and Human Services (HHS).

ACTION: Notice of issuance of single-source awards.

SUMMARY: The ACF, OCS, Division of Community Discretionary and Demonstration Programs (DCDDP) announces the intent to award seven single-source cooperative agreements in the aggregate amount of up to $8,181,779 to approved but unfunded applications submitted to the Diaper Distribution Demonstration and Research Pilot (DDDRP) Notice of Funding Opportunity HHS-2022-ACF-OCS-EDA-0161.

The purpose of these awards is to evaluate the ability of community action agencies, social services agencies, and other non-profit community organizations to provide diapers and diapering supplies on a consistent basis through diaper distribution programs, while also offering support services for families with low incomes. Recipients will operate and expand diaper distribution programs for families with low incomes.

DATES: The proposed period of performance is May 1, 2023, to April 30, 2025.

FOR FURTHER INFORMATION CONTACT: Thom Campbell, Office of Community Services, 330 C Street SW, Washington, DC 20201. Telephone: 202-401-5455; Email: thom.campbell@acf.hhs.gov.

SUPPLEMENTARY INFORMATION: The above-mentioned awards will be made pursuant to Congressional intent as reflected in the Explanatory Statement (p. S8891) accompanying the Consolidated Appropriations Act, 2023:

Social Services Research and Demonstration.—The agreement continues funding for the Diaper Distribution Demonstration and Research Pilot and expects that $10,000,000 of the funds made available for awards for direct services be made to approved but unfunded applicants of funding opportunity HHS-2022-ACF-OCS-EDA-0161, as well as technical assistance and evaluation activities for such grants.

OCS announces the intent to award the following single-source awards:

Recipient | Award amount
Massachusetts Association of Community Action Programs, Boston, MA | $1,200,000.00
California Community Action Partnership Association, Sacramento, CA | 1,200,000.00
Ohio Community Action Training Organization, Columbus, OH | 1,200,000.00
Maryland Community Action Partnership, Annapolis, MD | 1,200,000.00
Utah Community Action Partnership Association Inc, Layton, UT | 1,101,779.00
Community Action Association of Alabama, Birmingham, AL | 1,200,000.00
Sisseton-Wahpeton Oyate of the Lake Traverse Reservation, Agency Village, SD | 1,080,000.00

Statutory Authority

The DDDRP is authorized under section 1110 of the Social Security Act; 42 U.S.C. 1310. This program was first funded by Div. H, Title II of the Consolidated Appropriations Act, 2022 (Pub. L. 117-103) as a non-statutory earmark for the Social Services Research and Demonstration.

Karen D. Shields,
Senior Grants Policy Specialist, Office of Grants Policy, Office of Administration.

[FR Doc. 2023-08830 Filed 4-26-23; 8:45 am]

BILLING CODE 4184-XX-P